DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 19, 2014.

ADDRESSES: Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(6); 49 CFR 1.53(b)).

Issued in Washington, DC, on June 12, 2014.
Donald Burger,
Chief, General Approvals and Permits.

Application No. | Docket No. | Applicant | Regulation(s) affected | Nature of special permits thereof
NEW SPECIAL PERMITS
16163-N |  | The Dow Chemical Company, Midland, MI | 49 CFR 180.605(h)(3) | To authorize that the required 5 year test on UN portable MI tanks used in the transport of a Division 4.3 material be performed pneumatically (with nitrogen) rather than with water. (modes 1, 2, 3, 4).
16165-N |  | HRD Aero Systems, Inc., Valencia, CA | 49 CFR 173.302a | To authorize the manufacture, marking and sale of a non-DOT specification pressure vessel comparable to a DOT-3HT cylinder for the transportation of compressed gas. (modes 1, 2, 4, 5).
16166-N |  | Sparkle International, Inc., Bedford, OH | 49 CFR 173.6(a)(1)(ii) | To authorize the transportation in commerce of a Class 8, PG II material in a custom designed packaging as a material of trade when the mass or capacity limits are exceeded. (mode 1).
16169-N |  | JCR Construction Company, Inc., Raymond, NH | 49 CFR Table § 172.101, Column(9B), § 172.204(c)(3), § 173.27(b)(2) § 175.30(a)(1) § 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4)
16170-N |  | Hydro Stat LLC, Holly, MI | 49 CFR 180.213(b)(2) | To authorize the removal of certain requalification markings from DOT-3AL cylinders that have previously been retested in accordance with DOT-SP 14546 or DOT-SP 14854, to allow them to be returned to a 5 year hydrostatic retest schedule and eliminate the need for quality control for the gases to be used. (modes 1, 2, 3, 4, 5).
16171-N |  | O'Reilly Automotive Stores, Inc., Springfield, MO | 49 CFR 173.159 | To authorize the transportation in commerce of batteries in alternative packaging by motor vehicle. (mode 1).
16172-N |  | Entegris, Inc., Danbury, CT | 49 CFR 173.301(f) | To authorize the transportation in commerce of a Zone B toxic by inhalation gas in a DOT3AA cylinder that is fitted with an alternative pressure relief device. (modes 1, 3).
16174-N |  | Goal Zero, Bluffdale, UT | 49 CFR 173.185(a)(1) | To authorize the transportation in commerce of certain lithium batteries that do not have the original UN test certifications by motor vehicle. (mode 1)
16175-N |  | National Aeronautics and Space Administration (NASA), Washington, DC | 49 CFR 173.56, 173.302a and 173.304a | To authorize the transportation in commerce of a Division 1.4S explosive without an EX classification approval and carbon dioxide in a non-DOT specification cylinder. (modes 1, 3)
16178-N |  | National Aeronautics and Space Administration (NASA), Washington, DC | 49 CFR 173.302a | To authorize the transportation in commerce of compressed gases in non-DOT specification cylinders. (modes 1, 3).

[FR Doc. 2014-14181 Filed 6-19-14; 8:45 am]

BILLING CODE 4909-60-M